DEPARTMENT OF COMMERCE

Foreign-Trade Zones Board

[Docket 55-2003]

Foreign-Trade Zone 28—New Bedford, MA; Application for Foreign-Trade Subzone Status: The Acushnet Company (Sporting Goods), New Bedford, MA Area

An application has been submitted to the Foreign-Trade Zones Board (the Board) by the City of New Bedford (Massachusetts), grantee of FTZ 28, requesting special-purpose subzone status for the warehousing and manufacturing facilities (sporting goods) of the Acushnet Company (Acushnet), located in the New Bedford, Massachusetts area. The application was submitted pursuant to the Foreign-Trade Zones Act, as amended (19 U.S.C. 81a-81u), and the regulations of the Board (15 CFR part 400). It was formally filed on October 17, 2003.

The Acushnet facilities are located at five sites (133 acres total; 1.4 million sq. ft. of enclosed space): Site # 1—“Ball Plant II” (34.4 acres; 183,000 sq. ft.)—located at 246 Samuel Barnett Boulevard in North Dartmouth, Massachusetts; Site # 2—“Ball Plant III” (32.0 acres; 175,000 sq. ft.)—located at 215 Duchaine Boulevard in New Bedford; Site # 3—“Building C/Custom Operations” (9.5 acres; 438,000 sq. ft.)—located at 700 Belleville Avenue in New Bedford; Site # 4—“Fairhaven/Corporate Headquarters, Packaging, and Distribution” (53.1 acres; 448,500 sq. ft.)—located at 333 Bridge Street in Fairhaven, Massachusetts; and Site # 5—“Footjoy” (4.3 acres; 165,158 sq. ft.)—located at 144 Field Street in Brockton, Massachusetts.

The facilities (approximately 1,900 employees) may be used under FTZ procedures for manufacturing, assembling, and processing golf footwear and golf balls, as well as packaging, warehousing, distributing, scrapping, and research and development activities for golf footwear, golf balls, golf gloves, golf outerwear, and other golf-related accessories and equipment. For Acushnet's current manufacturing, foreign-sourced materials account for approximately 30 to 40 percent of finished-product value. The application lists the categories of material inputs which may be sourced from abroad, including: Leather; clasps, buckles, etc.; other parts of footwear (includes outsoles); other made up articles (includes shoe bags); zinc oxide and zinc peroxide; ogano-sulfur compounds; prepared rubber accelerators; compound plasticizers; prepared binders for foundry molds or cores; polymers of ethylene; and tungsten powders. Current duty rates for these input materials range up to 7.6 percent.

Zone procedures would exempt Acushnet from Customs duty payments on foreign components used in export production. On its domestic sales, Acushnet would be able to defer duty payments, and to choose the lower duty rate that applies to the listed finished-product categories (duty-free to 10 percent) for the foreign inputs listed above, among others. Acushnet would be able to avoid duty on foreign inputs which become scrap/waste, estimated at no more than 20 percent of imported inputs. The application also indicates that Acushnet may realize logistical/procedural and other benefits from subzone status. All of the above-cited savings from zone procedures could help improve the plant's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St., NW., Washington, DC 20005; or

2. Submissions Via the U.S. Postal Service: Foreign-Trade-Zones Board, U.S. Department of Commerce, FCB—Suite 4100W, 1401 Constitution Ave., NW., Washington, DC 20230.

The closing period for their receipt is December 29, 2003. Rebuttal comments in response to material submitted during the foregoing period may be submitted during the subsequent 15-day period to January 12, 2004.

A copy of the application and accompanying exhibits will be available for public inspection at the Office of the Foreign-Trade Zones Board's Executive Secretary at address Number 1 listed above, and at the U.S. Department of Commerce Export Assistance Center, One West Exchange Street, Providence, RI 02903.

Dated: October 17, 2003.
Dennis Puccinelli,
Executive Secretary.

[FR Doc. 03-27167 Filed 10-27-03; 8:45 am]

BILLING CODE 3510-DS-P